DEPARTMENT OF HOUSING AND URBAN DEVELOPMENT

[Docket No. FR-7015-N-10]

60-Day Notice of Proposed Information Collection: Project Based Vouchers (PBV) Online Form

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due: February 24, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dawn Smith, Office of Policy, Programs and Legislative Initiatives, PIH, Department of Housing and Urban Development, 451 7th Street SW, Room 3178, Washington, DC 20410; telephone 202-402-6488, (this is not a toll-free number). Persons with hearing or speech impairments may access this number via TTY by calling the Federal Relay Service at (800) 877-8339. Copies of available documents submitted to OMB may be obtained from Ms. Smith.

SUPPLEMENTARY INFORMATION: This notice informs the public that HUD is seeking approval from OMB for the information collection described in Section A.

A. Overview of Information Collection

Title of Information Collection: Project Based Vouchers (PBV) Online Form.

OMB Approval Number: Pending OMB Approval.

Type of Request: New.

Form Number: HUD is developing a standardized electronic system and data exchange standard for this collection and will provide a web service to support electronic file transfer using Java Script Object Notation (JSON).”. Within the scope of this collection, HUD requests the information in this notice from participating PHAs

Description of the need for the information and proposed use: Public Housing Agencies (PHAs) apply for funding to assist low-income families to lease housing. One of the programs through which PHAs provide housing assistance is the Housing Choice Voucher (HCV) Program, a tenant-based rental assistance program. This program operates by providing vouchers that cover a portion of the contract rent for a unit. Some PHAs project-base their vouchers (the rental assistance is connected to a unit, not a family). Project-based vouchers (PBVs) are becoming a larger percentage of PHAs overall HCV portfolios, rising from just over 110,000 in 2016 to approximately 215,000 in mid-2019. The PBV portfolio is expected to grow even more with the on-going conversion of up to 455,000 public housing units to project-based assistance under the Congressionally authorized Rental Assistance Demonstration (RAD). HUD currently collects information on individual participants in the HCV program who are in PBV units and Project certificate (PBC) housing through the PIC system. In addition, HUD collects aggregate information on the total number of PBVs under contract at the PHA level. HUD currently does not systematically collect information on the project or development level for PBVs.

This leaves a gap in HUD's information collection of PBVs between the individual tenant data and the aggregated PHA data. HUD does not systematically collect information on the development or project level, including the number of units at PBV projects, what exceptions apply, their rents, the terms of contract, and numerous other potential data points. This creates a challenge for monitoring, tracking and analyzing PBV projects, and limits HUD's ability to respond to requests for information on the PBV program from Congress and other sources. Additionally, it prevents HUD from having data with which to make informed decisions on risk-mitigation strategies with respect to PBVs.

Potential risks are particularly heightened in the case of two specific program categories; Rental Assistance Demonstration (RAD) that transition to be Project Based Vouchers and PHA-owned units where an independent entity performs inspections and determines the rent amounts. What distinguishes RAD PBVs from regular Project-Based Vouchers is their initial construction was paid for by HUD, rents are initially set below market level, and they are supposed to remain affordable in perpetuity. Currently, HUD has very limited information about RAD-PBV properties after their conversion and is unable to adequately monitor their long-term viability. PHA-owned PBVs pose a risk because PHAs may assist properties they own, subject to the independent entity requirement. PHAs may assist properties they own, subject to the independent entity requirement In addition, many other non-RAD or PHA-owned projects, such as those with 100% PBVs serving disabled or requiring supporting services represent crucial affordable housing resources for vulnerable communities that cannot be quickly and easily replaced through providing a voucher.

Through this collection, HUD is requiring the submission of project-level data on all Project-Based Vouchers, including but not limited to Rental Assistance Demonstration Project Based-Vouchers, mixed finance Project-Based Vouchers, all Project-Based Vouchers at Moving to Work Agencies, and all Project Based Vouchers at non-Moving to Work Agencies.

The fields of collection for PBV projects may include:

HAP Contract Number

Name of Project

Address of Building(s) and Units

Number of Units Under AHAP

Number of Units Under HAP Contract by Bedroom Size

Number of Total Units in the Project

Structure Type

Type: Existing, Rehabilitated, or Newly Constructed

Effective Date(s) of AHAP

Effective Date(s) of HAP Contract

Expiration Date

Owner Name

Owner Tax ID

Management Entity

PHA-Owned, PHA Has Ownership Interest but Not PHA-Owned, No PHA Ownership Interest

If PHA-Owned: Name of Independent Entity or Entities

Other Related Programs: Tax Credit, RAD, HUD-insured, VASH, or Other

Population Served: General, Homeless, Veterans, Families Eligible for Supportive Services, Families Receiving Supportive Services, Elderly Family, Disabled Family

Does an Exception to the Income-Mixing Requirement Apply?

If Yes, Which Exceptions(s)

Supportive Services Available (Y/N)?

Vacancy Payments Permitted (Y/N)?

Program Cap Exception (Y/N)?

Program Cap Exception Category

Unique Project Building Code*

HAP Contract Code*

Number of RAD PBVs

Use Restriction End Date

Year Built

Number and Bedroom Distribution of PBV-Assisted Section 504 Mobility Units at the Project

Number and Bedroom Distribution of PBV-Assisted Section 504 Hearing/Vision Units at the Project

* The Unique Project Building Code and HAP Contract Code may be produced by the system or a protocol for numbering may be established by HUD.

HUD recognizes that some of this information may be submitted to HUD, for instance as part of the initial subsidy layering review process, however, these submissions are insufficient to give HUD a universal and currently accurate picture of the Project Based Voucher universe. Therefore, HUD is proposing this information collection.

Definitions

HAP Contract Number

A unique number assigned to a Form HUD-52530-A (PBV HAP Contract—New Construction or Rehabilitation) or Form HUD-52530-B (PBV HAP Contract—Existing Housing) (hereinafter “HAP contract”) executed for the project, which may be produced by the system or a protocol for numbering may be established by HUD.

Name of Project

The name of the project as determined by the PHA as used in public or property records (where such records contain a name of the property as a whole) or the commonly used name of the project (such as the name on a sign at the property entrance). If no such name exists, a name for the project designated by the PHA for use in the system. “Project” is defined consistent with 24 CFR 983.3(b) as “a single building, multiple contiguous buildings, or multiple buildings on contiguous parcels of land.”

Address of Building(s) and Units

The street address, city, state, and zip code of the building or buildings covered by the HAP contract and all units covered under the HAP contract.

Number of Units Under AHAP

Total number of units in the project covered by the Form HUD-52523-A and Form HUD-52523-B (Agreement to Enter into a Housing Assistance Payment Contract) (hereinafter “AHAP”).

Number of Units Under HAP Contract by Bedroom Size

Total number of contract units in the project covered by the HAP contract, broken out by each bedroom size (0, 1, 2, 3, 4, 5+).

Number of Total Units in the Project

Total number of units in the project, including those covered by an AHAP or HAP contract and non-contract units.

Structure Type

The most closely matching description of the project from among this list: Elevator Structure, Mixed Type, Row or Townhouse Style (Separate Entrances), Semi Detached, Single Family/Detached, Walkup/Multifamily Apt (Shared Entrance).

Type: Existing, Rehabilitation or Newly Constructed

The following definitions apply consistent with 24 CFR 983.3(b), as amended by 82 FR 5458 (Jan. 18, 2017), 82 FR 32461 (Jul. 14, 2017):

Existing Housing

Housing units that already exist on the proposal selection date and that substantially comply with the HQS on that date.

Rehabilitated Housing

Housing units that exist on the proposal selection date, but do not substantially comply with the HQS on that date, and are developed, pursuant to an Agreement between the PHA and owner, for use under the PBV program.

Newly Constructed Housing

Housing units that do not exist on the proposal selection date and are developed after the date of selection pursuant to an Agreement between the PHA and owner for use under the PBV program.

Upon amendment of 24 CFR 983.3(b), the new definitions therein will supersede the definitions listed here.

Effective Date(s) of AHAP

Effective date(s) listed in § 1.4 of Part 1 the AHAP. A single-stage project will have the same Agreement effective date for all contract units. A multi-stage project will separate effective dates for each stage.

Effective Date(s) of HAP Contract

Effective date(s) listed in § 1(d) of Part 1 of the HAP contract. A single-stage project will have the same effective date for all contract units. For a multi-stage project, include the dates of each stage and the contract units covered by each stage.

Expiration Date

The HAP contract term end date, as determined by adding the length of the HAP contract term (initial and any extensions) to the effective date listed in § 1(d) of Part 1 of the HAP contract (for a multi-stage project, use the effective date of the first stage). The length of the initial and extension HAP contract terms shall be those listed in the HAP contract (for existing projects: § 1(d) of Part 1 of the Form HUD-52530-B HUD and associated exhibits; for newly constructed and rehabilitated projects: § 1(e) of Part 1 of the Form HUD-52530-A and associated exhibits).

Owner Name

The owner name as listed in § 1(a) of Part 1 of the HAP contract and contact information (telephone and email).

Owner Tax ID

The owner's federal tax identification number.

Management Entity

Name of the company or agency that manages the property and contact information (telephone and email).

PHA-Owned, PHA Has Ownership Interest But Not PHA-Owned, No PHA Ownership Interest

The following definitions apply consistent with 24 CFR part 983, as amended by 82 FR 5458 (Jan. 18, 2017), 82 FR 32461 (Jul. 14, 2017):

(1) PHA-owned:

a. Owned by the PHA (which includes a PHA having a “controlling interest” in the entity that owns the unit);

b. Owned by an entity wholly controlled by the PHA; or

c. Owned by a limited liability company (LLC) or limited partnership in which the PHA (or an entity wholly controlled by the PHA) holds a controlling interest in the managing member or general partner.

“Controlling interest” means:

a. Holding more than 50 percent of the stock of any corporation;

b. Having the power to appoint more than 50 percent of the members of the board of directors of a non-stock corporation (such as a non-profit corporation);

c. Where more than 50 percent of the members of the board of directors of any corporation also serve as directors, officers, or employees of the PHA;

d. Holding more than 50 percent of all managing member interests in an LLC;

e. Holding more than 50 percent of all general partner interests in a partnership; or

f. Having equivalent levels of control in other ownership structures. Most ownership structures are already covered in the categories listed above. This last category is meant to cover any ownership structure not already listed in the categories above. Also, under this category (f), a PHA must have more than 50 percent control in that ownership structure (an equivalent level of control) for the project to be considered PHA-owned.

(2) PHA ownership interest: An ownership interest means that the PHA or its officers, employees, or agents are in an entity that holds any direct or indirect interest in the project in which the units are located, including, but not limited to, an interest as:

a. Titleholder;

b. Lessee;

c. Stockholder;

d. Member, or general or limited partner; or

e. Member of a limited liability corporation.

(3) No PHA ownership interest: The PHA has no ownership interest in the property.

Upon amendment of 24 CFR part 983, the new definitions therein will supersede the definitions listed here.

If PHA-Owned: Name of Independent Entity or Entities

If the project is PHA-owned, the independent entity or entities which perform the following functions consistent with 24 CFR part 983:

1. Review the PHA's PBV selection process.

2. Establish PBV contract rents (initial rent to owner and redetermined rent to owner).

3. Determine rent reasonableness.

4. Provide a copy of the rent reasonableness determination to the PHA and the HUD field office where the project is located.

5. Establish term of initial and any renewal HAP contract as required in 24 CFR 983.205.

6. Inspect units.

7. Provide a copy of the inspection report to PHA and HUD field office where the project is located.

Other Related Programs: Tax Credit, RAD, HUD-Insured, VASH, or Other

List any HUD voucher authority other than regular Housing Choice Vouchers used to provide PBVs to the project (e.g., RAD, VASH). List other governmental housing assistance from federal, state, or local agencies, including assistance such as tax concessions or tax credits (e.g., HUD-insured, Tax Credit).

Population Served: General, Homeless, Veterans, Families Eligible for Supportive Services, Families Receiving Supportive Services, Elderly Family, Disabled Family

List the population(s) served if the project contains units specifically made available for or exclusively made available to a specific population. If some units are not specifically made available for or exclusively made available to a specific population listed below, mark “General.” The definitions of each population are found in the following locations, consistent with 24 CFR parts 5, 983, as amended by 82 FR 5458 (Jan. 18, 2017), 82 FR 32461 (Jul. 14, 2017):

1. Homeless: PIH Notice 2017-21, Attachment D.

2. Veterans: PIH Notice 2017-21, Attachment D.

3. Families eligible for supportive services: PIH Notice 2017-21, Attachments D and E.

4. Families receiving supportive services: PIH Notice 2017-21, Attachment E.

5. Elderly family: 24 CFR 5.403.

6. Disabled family: 24 CFR 5.403.

Upon amendment of 24 CFR part 983, the new definitions therein will supersede the definitions listed here.

Does an Exception to the Income-Mixing Requirement Apply?

Provide an answer (yes/no) to the question of whether the project qualifies for an exception to the income-mixing requirement under 24 CFR 983.56, as amended by 82 FR 5458 (Jan. 18, 2017), 82 FR 32461 (Jul. 14, 2017).

If Yes, Which Exception(s)

Choose the applicable exception from among those allowed by 24 CFR 983.56, as amended by 82 FR 5458 (Jan. 18, 2017), 82 FR 32461 (Jul. 14, 2017). The definitions of the exception categories are found in the following locations:

1. Units that are exclusively made available to households eligible for supportive services: PIH Notice 2017-21, Attachment E.

2. Units that are specifically made available for families receiving supportive services: PIH Notice 2017-21, Attachment E, for grandfathered projects as described therein.

3. Units that are exclusively made available to elderly families: PIH Notice 2017-21, Attachment E.

4. Units that are specifically made available for disabled families: PIH Notice 2017-21, Attachment E, for grandfathered projects as described therein.

5. Units located in a census tract with a poverty rate of 20 percent or less: PIH Notice 2017-21, Attachment E.

6. Units that were previously subject to certain federal rent restrictions or receiving another type of long-term housing subsidy provided by HUD: PIH Notice 2017-21, Attachment F, for projects that meet the additional requirements as described therein.

7. RAD PBV units: PIH Notice 2017-21, Attachment F.

8. HUD-VASH vouchers specifically designated for project-based assistance: PIH Notice 2017-21, Attachment F.

Upon amendment of 24 CFR part 983, the new definitions therein will supersede the definitions listed here.

Supportive Services Required/Available

If the project has supportive services available to residents so as to qualify for an exception to 24 CFR 983.56

Vacancy Payments Permitted

Provide an answer (yes/no) to the question of whether the PHA has included the vacancy payment provision in this HAP contract (for existing projects: § 1(e)(2) of Part 1 of the Form HUD-52530-B HUD; for newly constructed and rehabilitated projects: § 1(f)(2) of Part 1 of the Form HUD-52530-A).

Program Cap Exception (Y/N)?

Provide an answer (yes/no) to the question of whether the project qualifies for an exception to the program cap under 24 CFR 983.6, as amended by 82 FR 5458 (Jan. 18, 2017), 82 FR 32461 (Jul. 14, 2017).

Program Cap Exception Category

Choose the applicable exception from among those allowed by 24 CFR 983.6, as amended by 82 FR 5458 (Jan. 18, 2017), 82 FR 32461 (Jul. 14, 2017). The definitions of the exception categories are found in the following locations:

1. Units that are specifically made available to house homeless individuals and families: PIH Notice 2017-21, Attachment D.

2. Units that are specifically made available to house families that are comprised of or include a veteran: PIH Notice 2017-21, Attachment D.

3. Units that provide supportive housing to persons with disabilities or to elderly persons: PIH Notice 2017-21, Attachment D.

4. Units located in a census tract with a poverty rate of 20 percent or less: PIH Notice 2017-21, Attachment D.

5. Units that were previously subject to certain federal rent restrictions or receiving another type of long-term housing subsidy provided by HUD: PIH Notice 2017-21, Attachment F, for projects that meet the additional requirements as described therein.

6. RAD PBV units: PIH Notice 2017-21, Attachment F.

7. HUD-VASH vouchers specifically designated for project-based assistance: PIH Notice 2017-21, Attachment F.

Upon amendment of 24 CFR part 983, the new definitions therein will supersede the definitions listed here.

Unique Project Building Code *

Code may be produced by the system or a protocol for numbering may be established by HUD.

Use Restriction End Date

Provide an answer (yes/no) to the question of whether the project is subject to a use restriction imposed by HUD. If yes, provide the end date of the use restriction.

Number of RAD PBVs

Number of PBVs that converted under the Rental Assistance Demonstration Program.

HAP Contract Amount

Code may be produced by the system or a protocol for numbering may be established by HUD.

Year Built

The year the project's construction was first completed.

Number and Bedroom Distribution of PBV-Assisted Section 504 Mobility Units at the Project

This field captures the number of PBV-assisted units at the project that are accessible for persons with mobility impairments in accordance with Section 504 of the Rehabilitation Act of 1973 and HUD's implementing regulations at 24 CFR part 8. Such units must meet either the Uniform Federal Accessibility Standards (UFAS) or 2010 Americans with Disabilities Act (ADA) Standards (in accordance with HUD's Deeming Notice published in the Federal Register on May 23, 2014 (79 FR 29671)).

Number and Bedroom Distribution of PBV-Assisted Section 504 Hearing/Vision Units at the Project

PHAs would be required to enter this information into the online form when a new project came under Housing Assistance Payment (HAP) contract, and when project or development information changed. The unique project code identifier will tie to future potential changes to the 50058 which will permit linking HUD assisted-tenants to HUD assisted-properties. This is a new information collection.

Respondents (i.e. affected public): Public housing authorities (PHAs) that have project-based vouchers (PBVs) as a part of their portfolio.

Note: Preparer of this notice may substitute the chart for everything beginning with estimated number of respondents above:

Information collection | Number of respondents | Frequency of response | Responses per annum | Burden hour per response | Annual burden hours | Hourly cost per response | Annual cost
PBV Property Information | 668 | 6 | 4,008 | 1,5 | 6,012 | $40.10 | $241,0188

Our burden estimate for the number of respondents is based on a recent VMS total of the number of PHAs reporting PBVs in VMS. It is assumed PHAs will have to do a one-time submission for all the projects as well as potentially make updates when changes occur to the PBV projects (frequency of responses). The “responses per annum” represents an estimate of the amount of PBV projects that will need to be entered into the system. This number is multiplied by the frequency of responses to arrive at an annual estimate of burden hours. This is then multiplied by median average wage of a “Management Analyst” according to the Bureau of Labor Statistics for 2019 to arrive at a total annual cost.¹ It is anticipated that this cost will decline in subsequent years as PHAs only need to update information already in the system when changes are made to PBV projects.

¹ https://www.bls.gov/oes/current/oes131111.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) In this information collection, HUD has proposed collecting information on PBV-assisted units in PBV projects that are Section 504 accessible. Would it be feasible and useful to also collect this information on non-assisted units at PBV projects that do not receive PBV assistance Project-Based Voucher projects? Are there any potential barriers to collecting this information?

HUD encourages interested parties to submit comment in response to these questions.

C. Authority

Section 3507 of the Paperwork Reduction Act of 1995, 44 U.S.C. Chapter 35.

Dated: December 13, 2019.
Nora McArdle,
Senior Program Analyst, Office of Policy, Program and Legislative Initiatives.

[FR Doc. 2019-27841 Filed 12-23-19; 8:45 am]

BILLING CODE 4210-67-P